DEPARTMENT OF HOUSING AND URBAN DEVELOPMENT

[Docket No. FR-6340-D-02]

Order of Succession for the Office of Policy Development and Research

AGENCY: Office of the Deputy Secretary, Housing and Urban Development, HUD.

ACTION: Notice of order of succession.

SUMMARY: In this notice, the Deputy Secretary of the Department of Housing and Urban Development designates the Order of Succession for the Office of the Assistant Secretary for Policy Development and Research. This Order of Succession supersedes all prior Orders of Succession for the Office of Policy Development and Research, including the Order of Succession published in the Federal Register on July 13, 2018.

DATES: August 4, 2022.

FOR FURTHER INFORMATION CONTACT: Todd M. Richardson, General Deputy Assistant Secretary, Office of Policy Development and Research, Department of Housing and Urban Development, 451 7th Street SW, Room 8100, Washington, DC 20410-6000 or telephone number 202-402-5706 (this is not a toll-free number). Persons with hearing or speech impairments may access this number through TTY by calling the Federal Relay Service at 1-800-877-8339 (this is a toll-free number).

SUPPLEMENTARY INFORMATION: The Deputy Secretary of the Department of Housing and Urban Development is issuing this Order of Succession of officials authorized to perform the duties and functions of the Office of the Assistant Secretary for Policy Development and Research when, by reason of absence, disability, or vacancy in office, the Assistant Secretary for Policy Development and Research is not available to exercise the powers or perform the duties of the Office. This Order of Succession is subject to the provisions of the Vacancy Reform Act of 1998 (5 U.S.C. 3345-3349d). This publication supersedes all prior Orders of Succession for the Office of Policy Development and Research, including the Order of Succession published on July 13, 2018 (83 FR 32676). Accordingly, the Deputy Secretary of HUD designates the following Order of Succession:

Section A. Order of Succession

Subject to the provision of the Federal Vacancies Reform Act of 1998, during any period when, by reason of absence, disability, or vacancy in office, the Assistant Secretary for Policy Development and Research is not available to exercise the powers or perform the duties of the Office of the Assistant Secretary for Policy Development and Research, the following officials within the Office of Policy Development and Research are hereby designated to exercise the powers and perform the duties of the Office, including the authority to waive regulations:

(1) Principal Deputy Assistant Secretary;

(2) General Deputy Assistant Secretary;

(3) Deputy Assistant Secretary for Economic Affairs;

(4) Deputy Assistant Secretary for Research, Evaluation, and Monitoring; and

(5) Deputy Assistant Secretary for Policy Development.

These officials shall perform the functions and duties of the Office in the order specified herein, and no official shall serve unless all the other officials, whose position titles precede his or hers in this order, are unable to act by reason of absence, disability, or vacancy in office. No individual who is serving in an office listed in an acting capacity shall, by virtue of so acting, act as Assistant Secretary for Policy Development and Research pursuant to this Order.

Section D. Authority Superseded

This Order of Succession supersedes any prior Orders of Succession for the Office of Policy Development and Research, including the Order of Succession published on July 13, 2018 (83 FR 32676).

Authority: Section 7(d) of the Department of Housing and Urban Development Act (42 U.S.C. 3535(d)).

Adrianne Todman,
Deputy Secretary.

[FR Doc. 2022-17138 Filed 8-12-22; 8:45 am]

BILLING CODE 4210-67-P